Proclamation 10382 of April 29, 2022

Older Americans Month, 2022

By the President of the United States of America

A Proclamation

During Older Americans Month, we honor our Nation's seniors and the tremendous impact they have made in helping build a more perfect Union. Older Americans contribute their time and wisdom to make our communities stronger, more informed, and better connected. They are our loved ones, friends, mentors, essential workers, volunteers, and neighbors. We celebrate their achievements and recommit to providing our elders with the support and services they need to thrive and age with dignity.

Older adults have always been a vital source of strength and resilience in America. During the pandemic, many seniors came out of retirement to serve their communities in health care and education roles, filling job vacancies in critical shortage areas. Moving forward, we must ensure that older Americans have the appropriate resources to maintain their independence and stay connected to their communities.

My Administration is committed to keeping older Americans safe and healthy as they age. The American Rescue Plan allocated $1.4 billion to providing older adults with services for nutrition, health promotion, disease prevention, caregiver support, and long-term care. It also provided additional Medicaid funding to support millions of older adults with disabilities and to help States improve the quality of caregiving jobs. My Administration is also dedicated to improving the safety and quality of care in nursing homes—ensuring that they have sufficient staff, that families have the necessary information to support their loved ones, and that poorly performing nursing homes are held accountable.

This year, we celebrate the 50th anniversary of the Older Americans Act Nutrition Program—the first Federal program to support the well-being of older Americans through meal deliveries, nutrition services, educational programs, and counseling. We also celebrate the 10th anniversary of the National Plan to Address Alzheimer's Disease and recommit to building upon this important work.

During Older Americans Month, let us pay tribute to the seniors who raised and guided us throughout our lives, and let us renew our commitment to honoring their contributions by giving them the fullest care, support, and respect they deserve.

NOW, THEREFORE, I, JOSEPH R. BIDEN JR., President of the United States of America, by virtue of the authority vested in me by the Constitution and the laws of the United States, do hereby proclaim May 2022 as Older Americans Month. This month and beyond, I call upon all Americans to celebrate older adults for their contributions, support their independence, and recognize their unparalleled value to our Nation.

IN WITNESS WHEREOF, I have hereunto set my hand this twenty-ninth day of April, in the year of our Lord two thousand twenty-two, and of the Independence of the United States of America the two hundred and forty-sixth.

[FR Doc. 2022-09762

Filed 5-4-22; 8:45 am]

Billing code 3395-F2-P